DEPARTMENT OF TRANSPORTATION

Federal Aviation Administration

Public Notice for Waiver of Aeronautical Land-use Assurance; DeKalb-Taylor Municipal Airport, DeKalb, IL

AGENCY: Federal Aviation Administration, DOT.

ACTION: Notice of intent of waiver with respect to land.

SUMMARY: The Federal Aviation Administration (FAA) is considering a proposal to change a portion of airport land from aeronautical use to non-aeronautical use and to authorize the lease of airport property. The proposal consists of a leasing 3.528 acres of Lot 51 of the original M.D. Shipman's Farm parcel. Lot 51 became part of Tract No. 1 (16.83 acres) that was deeded to the City of DeKalb by the United States of America as government surplus property under the Surplus Property Act of 1944. Tract 1 also is currently subject to the National Emergency Use Provision (for times of National emergency), a condition that the City of DeKalb would also like to remove from the 3.528 parcel requesting the change in use. This subject land currently has a metal storage building on it miscellaneous bituminous and concrete drives and parking areas located on it. It is the intent of the City of DeKalb, as owner and operator of the DeKalb—Taylor Municipal Airport (DKB) to retain ownership of the 3.528 acre parcel and allow for commercial development on said parcel. This notice announces that the FAA is considering the proposal to authorize the change from aeronautical use to non-aeronautical use of the subject airport property at the DeKalb—Taylor Municipal Airport (DKB), DeKalb, IL. Approval does not constitute a commitment by the FAA to financially assist in the lease or development of the subject airport property nor a determination that all measures covered by the program are eligible for grant-in-aid funding from the FAA.

In accordance with section 47107(h) of Title 49, United States Code, this notice is required to be published in the Federal Register 30 days before modifying the land-use assurance that requires the property to be used for an aeronautical purpose.

DATES: Comments must be received on or before May 4, 2009.

FOR FURTHER INFORMATION CONTACT: Richard Pur, Program Manager, 2300 East Devon Avenue, Des Plaines, IL, 60018. Telephone Number 847-294-7527/FAX Number 847-294-7046. Documents reflecting this FAA action may be reviewed at this same location by appointment or at the DeKalb—Taylor Municipal Airport, 3232 Pleasant Street, DeKalb, Illinois 60115.

SUPPLEMENTARY INFORMATION: Following is a legal description of the property being changed to non aeronautical use located in DeKalb, DeKalb County, Illinois, and described as follows:

Portion of Tract 1

That part of the north 1,200 feet of Lot 51 of the M.D. Shipman's Farm Flat on the North Half of Section 24, Township 40 North, Range 4 East of the Third Principal Meridian, except that part conveyed and quitclaimed to DeKalb Township for the DeKalb Bypass per Document No. 8305201 in DeKalb County, Illinois, being more particularly described as:

Commencing at the northeast corner of said Lot 51; thence on an assumed bearing of South 00 degrees 17 minutes 28 seconds West, 35.50 feet along the east line of said Lot 51 to the southerly right-of-way of Pleasant Street and to the Point of Beginning; thence continuing South 00 degrees 17 minutes 28 seconds West, 451.57 feet along said east line; thence South 76 degrees 04 minutes 52 seconds West, 265.58 feet to the easterly right-of-way line of Peace Road conveyed per said Document No. 8305201; thence North 12 degrees 28 minutes 32 seconds West, 335.12 feet along said easterly right-of-way line; thence continuing along said easterly right-of-way line, 190.96 feet, being a curve to the right having a radius of 1,145.92 feet, the chord of said curve bears North 07 degrees 42 minutes 09 seconds West, 190.74 feet to the north line of said Lot 51; thence South 89 degrees 52 minutes 32 seconds East, 358.03 feet along said north line to the Point of Beginning.

Said parcel contains 3.528 acres, more or less.

Issued in Des Plaines, Illinois, on March 6, 2009.
James G. Keefer,
Manager, Chicago Airports District Office, FAA, Great Lakes Region.

[FR Doc. E9-7254 Filed 4-1-09; 8:45 am]

BILLING CODE